SMALL BUSINESS ADMINISTRATION

SBIR/STTR Phase I to Phase II Transition Benchmarks

AGENCY: U.S. Small Business Administration.

ACTION: Notice for Small Business Innovation Research Program Phase I to Phase II Transition Benchmarks; Amended.

SUMMARY: The Small Business Administration (SBA) is soliciting comments on proposed amendments to the SBIR/STTR Phase I to Phase II transition rate benchmark Table, which was originally published in the Federal Register on October 16, 2012. The Table will be amended to change the transition benchmark rate for the U.S. Department of Transportation (DOT) from the current rate of 0.45 to 0.25, and to change the length of the time period used to calculate the transition rate for the Environmental Protection Agency (EPA) and the Department of Education (ED) from the current length of 10 years to 5 years.

DATES: Effective Date: The amended rate is effective July 22, 2013.

Comment Date: Comments must be received on or before July 8, 2013.

ADDRESSES: Comments may be submitted to Edsel Brown, Jr., Assistant Director, Office of Innovation, Small Business Administration, 409 Third Street SW., Washington, DC 20416; or email to Technology@sba.gov.

FOR FURTHER INFORMATION CONTACT: Edsel Brown, Jr., Assistant Director, Office of Innovation at the address listed above, or telephone (202) 205-6450.

SUPPLEMENTARY INFORMATION: Section 4(a)(3)(iii) of the SBIR Policy Directive (77 FR 46806) and the STTR Policy Directive (77 FR 46855) require each agency to establish an SBA-approved Phase I-Phase II Transition Rate benchmark for the minimum required number of Phase II awards the applicant must have received relative to a given number of Phase I awards during a specified period. Section 5165 of the SBIR/STTR Reauthorization Act of 2011, requires SBA to publish the approved benchmarks and any subsequent changes to the benchmarks in the Federal Register and solicit comments from the public at least 60 days before the benchmarks can take effect. As a result, on October 16, 2012, at 77 FR 63410, SBA published the required notice in the Federal Register announcing that the Agency had approved the benchmarks for the 11 SBIR/STTR participating agencies and requested comments on those benchmarks. The benchmarks, including the required transition rates and the time period used to calculate the rates, were subsequently published on www.sbir.gov.

The approved and published transition benchmark rate for DOT is currently 0.45 and DOT uses a five year period for the benchmark calculation. DOT is revising its benchmark rate from 0.45 to 0.25. After review of the transition rates, DOT concludes that a benchmark rate of 0.25 is more appropriate for its SBIR program than the benchmark rate of 0.45. DOT is interested in providing small businesses with an ample opportunity to participate in its SBIR program and considers the lower rate to be more consistent with the innovative and exploratory nature of SBIR Phase I research. DOT is not changing the time period used for this benchmark.

The approved and published time period used by EPA and ED for this benchmark calculation is currently 10 years. EPA and ED have concluded that the 5 year period is appropriate and that the use of a uniform period across all agencies would make the requirement less confusing and burdensome on potential applicants.

The amended Table will read as follows:

Agency | Benchmark rate (Phase II/Phase I) | Length of period (years)
USDA | 0.25 | 5
DOC (NIST) | 0.25 | 5
DOC (NOAA) | 0.25 | 5
NASA | 0.25 | 5
DHS | 0.25 | 5
DOE | 0.25 | 5
EPA | 0.25 | 5
DoD | 0.25 | 5
NSF | 0.25 | 5
DOT | 0.25 | 5
ED | 0.25 | 5

Authority: 15 U.S.C. 638(9).

Pravina Raghavan,
Director, Office of Innovation and Technology.

[FR Doc. 2013-12312 Filed 5-22-13; 8:45 am]

BILLING CODE 8025-01-P